DEPARTMENT OF TRANSPORTATION

Federal Aviation Administration

14 CFR Part 417

[Docket No.: FAA-2011-0181; Amendment No. 417-2]

RIN 2120-AJ84

Launch Safety: Lightning Criteria for Expendable Launch Vehicles

AGENCY: Federal Aviation Administration (FAA), DOT.

ACTION: Direct final rule; Confirmation of effective date.

SUMMARY: This action confirms the effective date of July 25, 2011, for the direct final rule issued June 8, 2011. No comments were received on this final rule.

This action amends flight criteria for mitigating against naturally occurring lightning and lightning triggered by the flight of an expendable launch vehicle through or near an electrified environment in or near a cloud. These changes also increase launch availability and implement changes already adopted by the United States Air Force.

DATES: The direct final rule published June 8, 2011 (76 FR 33139) is effective on July 25, 2011.

ADDRESSES: The complete docket for the direct final rule, Docket No. FAA-2011-0181, may be examined at http://www.regulations.gov at any time or go to Docket operations in Room W12-140 West Building, Ground Floor at 1200 New Jersey Avenue, SE., Washington, DC, between 9 a.m. and 5 p.m., Monday through Friday, except Federal holidays.

FOR FURTHER INFORMATION CONTACT: For technical questions concerning this rule contact Karen Shelton-Mur, Office of Commercial Space Transportation, AST-300, Federal Aviation Administration, 800 Independence Avenue, SW., Washington, DC 20591; telephone (202) 267-7985; facsimile (202) 267-5463, e-mail Karen.Shelton-Mur@faa.gov.

For legal questions concerning this rule contact Laura Montgomery, Senior Attorney for Commercial Space Transportation, Office of the Chief Counsel, Federal Aviation Administration, 800 Independence Avenue, SW., Washington, DC 20591; telephone (202) 267-3150; facsimile (202) 267-7971, e-mail laura.montgomery@faa.gov.

SUPPLEMENTARY INFORMATION:

Direct Final Rule Procedure

The FAA anticipated that this regulation would not result in adverse or negative comment and therefore is issued as a direct final rulemaking. Because the changes to the lightning commit criteria will increase launch availability and are already for U.S. Government launchs at Air Force launch ranges, the public interest is well served by this rulemaking.

The comment period closed July 8, 2011, and the FAA received no comments.

Conclusion

In light of the fact that no comments were submitted in response to the direct final rule, the FAA has determined that no further rulemaking action is necessary. Therefore, Amendment No. 417-2 takes effect as of July 25, 2011.

Issued in Washington, DC on July 18, 2011.
Dennis R. Pratte,
Acting Director, Office of Rulemaking.

[FR Doc. 2011-18586 Filed 7-21-11; 8:45 am]

BILLING CODE 4910-13-P